DEPARTMENT OF DEFENSE

Department of the Army

Information on Surplus Land at a Military Installation Designated for Disposal: Umatilla Chemical Depot, Oregon

AGENCY: Department of the Army, DoD.

ACTION: Notice.

SUMMARY: This amended notice provides information on withdrawal of surplus property at the Umatilla Chemical Depot, Oregon. This notice amends the Notice published in the Federal Register on November 17, 2008 (73 FR 67846).

DATES: Effective June 16, 2017.

FOR FURTHER INFORMATION CONTACT: Headquarters, Department of the Army, Assistant Chief of Staff for Installation Management, Base Realignment and Closure (BRAC) Division, Attn: DAIM-ODB, 600 Army Pentagon, Washington, DC 20310-0600, (703) 545-2460. For information regarding the specific property listed below, contact the Army BRAC Division at the mailing address above or email at usarmy.pentagon.hqda-acsim.mbx.braco-webmaster@mail.mil.

SUPPLEMENTARY INFORMATION: In 2005, Umatilla Chemical Depot, Oregon, was designated for closure under the authority of the Defense Base Closure and Realignment Act of 1990, Public Law 101-510, as amended. On November 17, 2008 the Department of Army published a Notice in the Federal Register (73 FR 67846) that property at this installation was declared surplus to the needs of the Federal Government. A portion of the Property previously reported as surplus is now required by the Federal Government for military training by reserve components of the Armed Forces.

Surplus Property List

Withdraw: 7,500 acres, all buildings and infrastructure thereon, water certificates 33779, 33778, 33989, and 91003, and 1,092.61 acres existing safety easements.

Authority: This action is authorized by the Consolidated Appropriations Act, 2012, Pub. L. 112-74, in accordance with the procedures and authorities of the Defense Base Closure and Realignment Act of 1990, Pub. L. 101-510, as amended, 10 U.S.C. 2687 note.

Dated: June 6, 2017.
Paul D. Cramer,
Deputy Assistant Secretary of the Army, (Installations, Housing and Partnerships).

[FR Doc. 2017-12507 Filed 6-15-17; 8:45 am]

BILLING CODE 5001-03-P